DEPARTMENT OF STATE

[Public Notice 3471]

Culturally Significant Objects Imported for Exhibition Determinations:

AGENCY: “Unseen Treasures: Imperial Russia and the New World” United States Department of State.

ACTION: Amendment.

SUMMARY: On July 30, 1999, Notice was published on page 41488 of the Federal Register (Volume 64, Number 146) by the Department of State pursuant to Pub. L. 89-259 relating to the exhibition “Unseen Treasures: Imperial Russia and the New World.” That referenced Notice is hereby amended as follows: after the words “on or about December 31, 2000,” insert the following additional language: “and at the Presidio Trust Exhibition Hall, San Francisco, California, from on or about March 16, 2001, to on or about June 15, 2001,”.

FOR FURTHER INFORMATION CONTACT: For further information, including a list of exhibit objects, contact Paul W. Manning, Attorney-Adviser, Office of the Legal Adviser, 202/619-5997, and the address is United States Department of State, SA-44, Room 700, 301 4th Street, S.W., Washington, DC 20547-0001.

Dated: November 6, 2000.
William B. Bader,
Assistant Secretary for Educational and Cultural Affairs, Department of State.

[FR Doc. 00-29070 Filed 11-13-00; 8:45 am]

BILLING CODE 4710-08-U